DEPARTMENT OF TRANSPORTATION

Federal Highway Administration

Notice of Final Federal Agency Actions on Proposed Highway in Utah

AGENCIES: Federal Highway Administration (FHWA), USDOT.

ACTION: Notice of Limitation on Claims for Judicial Review of Actions by Army Corps of Engineers, (USACE), Department of Defense, (DOD).

SUMMARY: This notice announces actions taken by the USACE that are final within the meaning of 23 U.S.C.139(l)(1). The actions relate to a proposed highway project, I-15 Corridor, from the South Payson Interchange in Utah County, to the 12300 South Interchange in Salt Lake County, State of Utah. Those actions grant licenses, permits, and approvals for the project.

DATES: By this notice, the FHWA is advising the public of final agency actions subject to 23 U.S.C.139(l)(1). A claim seeking judicial review of the Federal agency actions that are covered by this notice will be barred unless the claim is filed on or before June 15, 2009. If the Federal law that authorizes judicial review of a claim provides a time period of less than 180 days for filing such claim, then that shorter time period still applies.

FOR FURTHER INFORMATION CONTACT: For FHWA: Mr. Carlos C. Machado, MBA, Major Project Manager, Federal Highway Administration, 2520 West 4700 South, Suite 9A, Salt Lake City, Utah 84118-1880; Telephone: (801) 963-0078 ext. 231; e-mail: carlos.machado@fhwa.dot.gov. The FHWA Utah Division Office's normal business hours are 7:30 a.m. to 4:30 p.m. (Mountain Time). For USACE: Mr. Jason A. Gipson, Chief, Nevada-Utah Regulatory Branch, Corps of Engineers, 533 West 2600 South, Suite 150, Bountiful, Utah 84010; Telephone: (801) 295-8380 ext. 14; e-mail: jason.a.gipson@usace.army.mil. The USACE Utah Regulatory Office's normal business hours are 7:30 a.m. to 4:30 p.m. (Mountain Time). For the Utah Department of Transportation (UDOT): Mr. Merrell Jolley, P.E., 658 North 1500 West, Orem, Utah 84057; Telephone: (801) 222-3406; e-mail: merrelljolley@utah.gov. The UDOT's normal business hours are Monday through Thursday, 7:30 a.m. to 5:30 p.m. (M. Time).

SUPPLEMENTARY INFORMATION: On Wednesday, November 5, 2008, the FHWA published a “Notice of Final Federal Agency Actions on Proposed Highway in Utah” in the Federal Register at Volume 73, No. 125, page 36503, for the following highway project in the State of Utah: I-15 from the South Payson Interchange in Utah County, to the 12300 South Interchange in Salt Lake County, a total of 43 miles. The project includes widening the I-15 mainline, and reconstruction or improvement at all interchanges. It also includes a new interchange at North Lehi. The actions by the Federal agencies, and the laws under which such actions were taken, are described in the Final Environmental Impact Statement (FEIS) for the project, approved on June 9, 2008, in the FHWA Record of Decision (ROD) issued on August 15, 2008, and in other documents in the FHWA project files. The FEIS, ROD, and other project records are available by contacting the FHWA or the UDOT at the addresses provided above. The FHWA FEIS and ROD can be viewed and downloaded from the project Web site at http://www.udot.utah.gov/i15core/ or viewed at public libraries in the project area.

This notice applies to all Federal agencies' final actions taken after the issuance date of the FHWA Federal Register notice described above. The laws under which actions were taken include, but are not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq. ]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: November 20, 2008.
Walter C. Waidelich, Jr.,
Division Administrator, Salt Lake City.

[FR Doc. E8-29991 Filed 12-16-08; 8:45 am]

BILLING CODE 4910-RY-P